DEPARTMENT OF COMMERCE

National Oceanic and Atmospheric Administration

[I.D. 052501C]

Endangered Species; Permits

AGENCY: National Marine Fisheries Service (NMFS), National Oceanic and Atmospheric Administration (NOAA), Commerce.

ACTION: Receipt of an application for a scientific research permit (1324); Issuance of permits 1275, 1295, 1299 and modification #2 to permit 1198.

SUMMARY: Notice is hereby given of the following actions regarding permits for takes of endangered and threatened species for the purposes of scientific research and/or enhancement under the Endangered Species Act (ESA): NMFS has received an application for a scientific research permit from Dr. Nancy Thompson, National Marine Fisheries Service-Southeast Fisheries Science Center; NMFS has issued permit 1299 to Dr. Raymond Carthy of the Florida Cooperative Fish & Wildlife Research Unit (1299); NMFS has issued permit 1295 to Dr. Michael P. Sissenwine of Northeast Fisheries Science Center (1295); NMFS has issued permit 1275 to Mr. Joseph Hightower of the North Carolina Cooperative Fish and Wildlife Research Unit (1275); and, NMFS has issued modification #2 to permit 1198 to Dr. Allen Foley of the Florida Fish and Wildlife Conservation Commission (1198).

DATES: Comments or requests for a public hearing on any of the new applications or modification requests must be received at the appropriate address or fax number no later than 5 p.m. eastern standard time on July 5, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Fish

Endangered Shortnose Sturgeon (Acipenser brevirostrum)

New Applications Received

Application 1324

The Southeast Fisheries Science Center (SEFSC) has applied for a two-year permit to conduct sea turtle bycatch reduction experiments associated with longline fishing techniques. The SEFSC proposes to conduct experiments to focus on the effectiveness of specific measures to reduce the bycatch of sea turtles in the Pelagic Longline fishery. The applicant proposes to take 415 loggerhead, 301 leatherback, 2 Kemp's ridley, 2 green and 2 hawksbill turtles over the life of the permit. Turtles taken by longline gear during this experiment will be handled, measured, flipper and PIT tagged, have a skin biopsy collected and be released. The applicant also requests authorization to attach 20 conventional satellite tags and 75 pop-up satellites to a total of 95 of the already taken loggerhead turtles. Any turtles brought aboard the vessel dead will be removed from marine environment for research purposes. The application is available for download and review from the Office of Protected Resources permits webpage: http://www.nmfs.noaa.gov/prot_res/PR3/Permits/ESApermit.html.

Permits and Modified Permits Issued

Permit #1275

Notice was published on January 25, 2001 (66 FR 7742) that Mr. Joseph Hightower, of North Carolina Cooperative Fish and Wildlife Research Unit applied for a scientific research permit (1275). The applicant proposed to conduct a two year survey of the Neuse River to prepare a baseline study of the possible existence of shortnose sturgeon in the river. The research will use the NMFS sampling protocols for determining presence or absence of shortnose sturgeon in a selected river. The goals of the study are to determine whether shortnose sturgeon are present within the Neuse River system, and to determine if suitable shortnose sturgeon habitat is available within the river system. Permit 1275 was issued on May 24, 2001 and expires December 31, 2002.

Permit #1295

Notice was published on March 5, 2001 (66 FR 13305) that Dr. Michael P. Sissenwine, of Northeast Fisheries Science Center applied for a scientific research permit (1295). The goal of the five-year plan for sea turtles in the Northeast is to work cooperatively with other regions to support and direct research on sea turtles in order to identify and assess the status of sea turtle stocks, reduce the estimated mortality associated with fishing activities and other anthropogenic and natural sources and to recover ESA listed species. Permit 1295 was issued on May 24, 2001, and expires May 31, 2006.

Permit #1299

Notice was published on March 9, 2001 (66 FR 14134) that Dr. Raymond Carthy, of the Florida Cooperative Fish & Wildlife Research Unit applied for a scientific research permit (1299). The applicant requested a three year permit to take juvenile and adult turtles along the St. Joseph Peninsula, in St. Joseph Bay, Florida. The applicant proposes to examine the internesting movements and habitat usage of adult loggerhead turtles along the northwestern coast of Florida, while also examining species composition, population densities and habitat utilization in coastal bays in the same area. Permit 1299 was issued on May 24, 2001, and expires December 31, 2003.

Modification #2 to Permit #1198

The Florida Marine Research Institute currently possesses a five-year scientific research permit to take up to 700 loggerhead, 250 green, 5 leatherback, 25 hawksbill, and 100 Kemp's ridley sea turtles annually from Florida coastal waters. Turtles captured will include all life history stages from post-hatchling through adult. Of the 700 loggerheads authorized annually, 400 are hatchlings. This research will further the understanding of life histories, habitat requirements, migratory behaviors, and threats to these five species of sea turtles occurring in Florida waters. The permit holder currently has authorization to capture turtles in tended, straight-set, large-mesh tangle nets; tended, drifting large-mesh tangle nets; tended, encircling (strike) large-meshed nets; dip nets; and by hand-capture. Captured turtles are weighed, measured, photographed, and flipper and PIT tagged. Select turtles have blood and stomach samples (via gastric lavage) collected and receive radio, sonic, and/or satellite transmitters. Additionally, laparoscopy and tumor collection are authorized to be performed on selected turtles.

For modification #2, the applicant requests the Dr. Allen Foley be designated as permit holder in place of Mr. J. Alan Huff, who is no longer responsible for this permit activity. The applicant also requests authorization to use ten crittercams in lieu of ten previously authorized radio/sonic transmitters. Modification #2 to Permit 1198 was issued on May 18, 2001, and permit 1198 expires March 31, 2004.

Dated: May 25, 2001.
Phil Williams,
Acting Chief, Endangered Species Division, Office of Protected Resources, National Marine Fisheries Service.

[FR Doc. 01-13969 Filed 6-1-01; 8:45 am]

BILLING CODE 3510-22-S